PEACE CORPS

Privacy Act of 1974; System of Records

AGENCY: Peace Corps.

ACTION: Notice of change of effective date and additional modifications to proposed systems of records.

SUMMARY: Pursuant to the Privacy Act of 1974, the Peace Corps issued public notice of its proposal to modify nineteen systems of records and add six new systems of records. The notice provided information required under the Privacy Act on the revised and new systems of records. This Notice revises the effective date for two systems of records and gives notice that the effective date for the remaining systems is October 23, 2000.

FOR FURTHER INFORMATION CONTACT: Maggie Thielen, Office of the Chief Information Officer, Peace Corps, 1111 20th Street, NW, Washington, DC 20526. Telephone: (202) 692-1106.

SUPPLEMENTARY INFORMATION: Pursuant to the Privacy Act of 1974, the Peace Corps issued public notice on September 5, 2000, of its proposal to modify nineteen systems of records and add six new systems of records (65 FR 53772, September 5, 2000). The notice provided information required under the Privacy Act on the revised and new systems of records. The Comment deadline in the Notice was October 20, 2000, and the effective date for the systems of records was October 23, 2000, unless the Peace Corps received comments that would require a different determination. As a result of receiving internal comments, Privacy Act systems PC-17 and PC-22 will require additional modification. Therefore, these two systems will not become effective on October 23. Instead, the current version of PC-17 will remain in effect until it is republished for comment by the Peace Corps with additional modifications. The current version of PC-17 may be found at http://frwebgate.access.gpo.gov/cgi-bin/getdoc.cgi? System PC-22, which is a new system, can be found in the Notice published on September 5, 2000, at 65 FR 53772.

This notice is issued in Washington, DC, October 19, 2000.
Doug Greene,
Chief, Information Officer and Associate Director for Management.

[FR Doc. 00-27366 Filed 10-20-00; 2:39 pm]

BILLING CODE 6051-01-M